DEPARTMENT OF ENERGY

Federal Energy Regulatory Commission

[Docket No. CP01-415-000]

East Tennessee Natural Gas Company; Notice of Public Working Meetings

November 16, 2001.

The staff of the Federal Energy Regulatory Commission (FERC or Commission) will hold additional public working meetings to discuss the environmental impacts of the East Tennessee Natural Gas Company's (East Tennessee) Patriot Project in Tennessee, Virginia, and North Carolina.

The locations and times for these meetings are listed below.

Tuesday, November 27, 2001, 7:30-10 p.m. Carroll County High School Auditorium, 100 Cavs Lane, Hillsville, VA 24343, (540) 728-2165 or (540) 236-4455

Thursday, November 29, 2001, 7:30-10 p.m. Martinsville Middle School Auditorium, 201 Brown Street, Martinsville, VA 24112, (276) 634-5728

These public working meetings are designed to provide you with more information about the project, and an opportunity for you to discuss the project and alternatives with FERC staff. You may also submit written comments at the meeting.

On the dates of the meetings, we will also be conducting limited site visits of the project area, and on November 28, 2001, staff will conduct overflight of the project area. Anyone interested in participating in the site visits may contact the Commission's Office External Affairs at (201) 208-1088 for more details and must provide their own transportation.

David P. Boergers,
Secretary.

[FR Doc. 01-29237 Filed 11-21-01; 8:45 am]

BILLING CODE 6717-01-P